DEPARTMENT OF ENERGY

Federal Energy Regulatory Commission

[Docket No. CP22-494-000]

Boardwalk Storage Company, LLC; Notice of Schedule for the Preparation of an Environmental Assessment for the BSC Compression Replacement Project

On August 5, 2022, Boardwalk Storage Company, LLC (Boardwalk Storage or BSC) filed an application in Docket No. CP22-494-000 requesting a Certificate of Public Convenience and Necessity pursuant to Section 7(c) and Authorization pursuant to Section 7(b) of the Natural Gas Act to construct and operate and abandon certain natural gas pipeline facilities. The proposed project is known as the BSC Compression Replacement Project (Project) and would abandon one existing electric driven 10,000 horsepower (hp) compression unit and install a new electric driven 9,000 hp compressor unit and other auxiliary facilities at the Choctaw Compressor Station in Iberville Parish, Louisiana.

On August 16, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA March 13, 2023

90-Day Federal Authorization Decision Deadline ² June 11, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Boardwalk Storage proposes to abandon one 10,000 hp compressor unit and install a new electric driven 9,000 hp centrifugal compressor unit at the Choctaw Compressor Station in Iberville Parish, Louisiana. The Project also includes the installation of yard and station piping and appurtenant facilities and placing an existing 10,000 hp electric compressor unit on standby. The Project would decrease the current certificated injection capability of the Choctaw Storage Facility from 350,000 dekatherms per day to 150,000 dekatherms per day and the certificated horsepower at the Choctaw Compressor Station would decrease from 20,000 hp to 9,000 hp. According to Boardwalk Storage, its project would improve efficiency and reliability at the Choctaw Compressor Station and the proposed modifications would not change the Choctaw Storage Facility's storage or withdrawal capacity.

Background

On September 6, 2022, the Commission issued a Notice of Scoping Period Requesting Comments on Environmental Issues for the Proposed BSC Compression Replacement Project and Notice of Public Scoping Session (Notice of Scoping). The Notice of Scoping was sent to affected landowners; federal, state, and local government agencies; elected officials; environmental and public interest groups; Native American tribes; other interested parties; and local libraries and newspapers. In response to the Notice of Scoping, the Commission received comments from the Louisiana Department of Transportation and Development, the U.S. Fish and Wildlife Service, the Bureau of Indian Affairs, and the U.S. Environmental Protection Agency. The primary issues raised by the commenters are air quality, climate change, environmental justice, and wetlands. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-494), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 17, 2022.
Debbie-Anne A. Reese,
Deputy Secretary.

[FR Doc. 2022-22917 Filed 10-20-22; 8:45 am]

BILLING CODE 6717-01-P